DEPARTMENT OF TRANSPORTATION

Federal Aviation Administration

Aviation Security Advisory Committee; Meeting

AGENCY: Federal Aviation Administration, DOT.

SUMMARY: Notice is hereby given of a meeting of the Aviation Security Advisory Committee.

DATES: The meeting will be held December 18, 2001, from 10 a.m. to 1 p.m.

ADDRESSES: The meeting will be held at the Capitol Holiday Inn, 550 C Street, SW, Discovery II Room, Washington, DC 20024, telephone 202-479-4000.

SUPPLEMENTARY INFORMATION: Pursuant to section 10(a)(2) of the Federal Advisory Committee Act (Pub. L. 92-463; 5 U.S.C. App. 11), notice is hereby given of a meeting of the Aviation Security Advisory Committee to be held December 18, 2001, at the Capitol Holiday Inn, 550 C Street, SW., Discovery II Room, Washington, DC. The agenda for the meeting will include: Regulatory/Legislative Initiatives, Enforcement Policy, and Status of Rapid Response Team Recommendations. The meeting is open to the public but attendance is limited to space available. Members of the public may address the committee only with the written permission of the chair, which should be arranged in advance. The chair may entertain public comment if, in its judgment, doing so will not disrupt the orderly progress of the meeting and will not be unfair to any other person. Members of the public are welcome to present written material to the committee at any time. Persons wishing to present statements or obtain information should contact the Office of the Associate Administrator for Civil Aviation Security, 800 Independence Avenue, SW., Washington, DC 20591, telephone 202-267-7622.

Issued in Washington, DC, on November 28, 2001.
Lynne Osmus,
Deputy Associate Administrator for Civil Aviation Security.

[FR Doc. 01-29889 Filed 11-30-01; 8:45 am]

BILLING CODE 4910-13-M